DEPARTMENT OF THE INTERIOR

Bureau of Land Management

[OR-957-6333-PH: HAG08-0061]

Filing of Plats of Survey: Oregon/Washington

AGENCY: U.S. Department of the Interior, Bureau of Land Management.

ACTION: Notice.

SUMMARY: The plats of survey of the following described lands were officially filed in the Bureau of Land Management Oregon/Washington State Office, Portland, Oregon, on February 6, 2008.

Willamette Meridian

Washington

T. 32 N., R. 35 E., accepted December 21, 2007

T. 23 N., R. 12 W., accepted December 28, 2008

Oregon

T. 39 S., R. 2 W., accepted December 3, 2007

T. 40 S., R. 2 W., accepted December 3, 2007

T. 3 S., R. 45 E., accepted December 21, 2007

T. 37, S., R. 3 W., accepted December 21, 2007

T. 32 S., R. 6 W. accepted December 21, 2008

T. 32 S., R. 6 W. accepted December 28, 2008

T. 39 S., R. 7 W., accepted December 28, 2008

A copy of the plats may be obtained from the Land Office at the Oregon/Washington State Office, Bureau of Land Management, 333 S.W. 1st Avenue, Portland, Oregon 97204, upon required payment. A person or party who wishes to protest against a survey must file a notice that they wish to protest (at the above address) with the Oregon/Washington State Director, Bureau of Land Management, Portland, Oregon.

FOR FURTHER INFORMATION CONTACT: Chief, Branch of Geographic Sciences, Bureau of Land Management, (333 S.W. 1st Avenue), P.O. Box 2965, Portland, Oregon 97208.

Dated: February 12, 2008.
Fred O'Ferrall,
Branch of Lands and Minerals Resources.

[FR Doc. E8-3473 Filed 2-22-08; 8:45 am]

BILLING CODE 4310-33-P